DEPARTMENT OF COMMERCE

National Oceanic and Atmospheric Administration

RIN 0648-XC436

Pacific Fishery Management Council; Public Meeting

AGENCY: National Marine Fisheries Service (NMFS), National Oceanic and Atmospheric Administration (NOAA), Commerce.

ACTION: Notice, public meeting.

SUMMARY: The Pacific Fishery Management Council (Pacific Council) will convene a conference call of its Coastal Pelagic Species Management Team (CPSMT) and Coastal Pelagic Species Advisory Subpanel (CPSAS). A listening station will be available at the Pacific Council offices for interested members of the public, and there may be opportunities to attend the meeting remotely.

DATES: The conference call will be held Tuesday, January 29, 2013, from 2 p.m. to 4 p.m.

ADDRESSES: The meeting will be held via conference call, with a public listening station available at the Pacific Council offices.

Council address: Pacific Fishery Management Council, 7700 NE Ambassador Place, Suite 101, Portland, OR 97220.

FOR FURTHER INFORMATION CONTACT: Kerry Griffin, Staff Officer; telephone: (503) 820-2280.

SUPPLEMENTARY INFORMATION: The items of discussion are as follows:

1. The Council's Fishery Ecosystem Plan, which is scheduled to be adopted at the Council's March 2013 meeting in Tacoma, WA.

2. The February 5-8, 2013 Pacific sardine harvest parameters workshop.

3. A plan for holding future CPSMT and CPSAS elections.

4. Other items relevant to Coastal Pelagic Species management may be discussed as time allows, at the discretion of the Chairs.

Although non-emergency issues not contained in this agenda may come before this group for discussion, those issues may not be the subject of formal action during this meeting. Action will be restricted to those issues specifically listed in this notice and any issues arising after publication of this notice that require emergency action under Section 305(c) of the Magnuson-Stevens Fishery Conservation and Management Act, provided the public has been notified of the CPSMT's intent to take final action to address the emergency.

Special Accommodations

This listening station is physically accessible to people with disabilities. Requests for sign language interpretation or other auxiliary aids should be directed to Mr. Kris Kleinschmidt, at (503) 820-2280, at least 5 days prior to the meeting date.

Dated: January 8, 2013.
Tracey L. Thompson,
Acting Deputy Director, Office of Sustainable Fisheries, National Marine Fisheries Service.

[FR Doc. 2013-00397 Filed 1-10-13; 8:45 am]

BILLING CODE 3510-22-P